DEPARTMENT OF ENERGY

Federal Energy Regulatory Commission

[Docket No. OR12-15-000]

Regency Field Services LLC, v. DCP Black Lake Pipe Holdings, LP; Notice of Complaint

Take notice that on May 14, 2012, pursuant to sections 1(5), 1(6), 3(1), 8, 9, 13(1), 15(1), and 16(1) of the Interstate Commerce Act (ICA), 49 U.S.C. App. 1(5), 1(6), 3(1), 8, 9, 13(1), 15(1), and 16(1), and 18 CFR 343.3(c)(3) and 385.206, Regency Field Services LLC (Regency or Complainant) filed a complaint against DCP Black Lake Pipe Holdings, LP (Black Lake or Respondent) alleging that Black Lake has unlawfully and in an unjust and unreasonable manner assessed off-specification penalties against Regency associated with the transportation of Natural Gas Liquids pursuant to Rule 5 of Black Lake's Rules and Regulations tariff (Tariff No. 79.1.0), filed with the Commission on May 26, 2011 in Docket No. IS11-399-000.

As Black Lake does not list contact persons on the Commission's list of Corporate Officials, Regency certifies that copies of the complaint were served on the persons listed as the Issuer and Compiler of Black Lake's Tariff No. 79.1.0.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 13, 2012.

Dated: May 15, 2012.
Kimberly D. Bose,
Secretary.

[FR Doc. 2012-12202 Filed 5-18-12; 8:45 am]

BILLING CODE 6717-01-P